NATIONAL AERONAUTICS AND SPACE ADMINISTRATION

[Notice: (22-082)]

NASA Advisory Council; Human Exploration and Operations Committee

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Monday, October, 31, 2022, 8:20 a.m. to 3:35 p.m. eastern time; and Tuesday, November 1, 2022, 9:30 a.m. to 11:30 a.m. eastern time.

ADDRESSES: Meeting will be virtual only. See Webex and audio dial-in information below under SUPPLEMENTARY INFORMATION.

FOR FURTHER INFORMATION CONTACT: Dr. Bette Siegel, Designated Federal Officer, Human Exploration and Operations Committee, NASA Headquarters, Washington, DC 20546, via email at bette.siegel@nasa.gov or phone at 202-358-2245.

SUPPLEMENTARY INFORMATION: As noted above, this meeting will be open to the public via Webex and telephonically. Webex connectivity information is provided below. For audio, when you join the Webex event, you may use your computer or provide your phone number to receive a call back, otherwise, call the U.S. toll conference number listed.

The event address for October 31, 2022 is: https://nasaenterprise.webex.com/nasaenterprise/j.php?MTID=mee6d4206a5bc57fd5b9c4e6dda53eeb9.

The event number (access code) is 2761 010 0360, and the event password is YePCgpr*633. To join by phone: +1-929-251-9612 (USA Toll 2), or +1-415-527-5035 (US Toll) global call-in numbers. The event address for November 1, 2022 is: https://nasaenterprise.webex.com/nasaenterprise/j.php?MTID=mee6d4206a5bc57fd5b9c4e6dda53eeb9.

The event number (access code) is 2761 010 0360, and the event password is YePCgpr*633. To join by phone: +1-929-251-9612 (USA Toll 2), or 1-415-527-5035 (US Toll) global call-in numbers.

The agenda for the meeting includes the following topics:

—Space Operations Mission Directorate (SOMD) Status

—Exploration Systems Mission Directorate (ESDMD) Status

—Artemis I and II

—Artemis III-IV

—International Space Station Update

—Commercial Crew

—Commercial Programs

It is imperative that this meeting be held on this day to accommodate the scheduling priorities of the key participants.

Carol Hamilton,
Acting Advisory Committee Management Officer, National Aeronautics and Space Administration.

[FR Doc. 2022-22272 Filed 10-12-22; 8:45 am]

BILLING CODE 7510-13-P